NUCLEAR REGULATORY COMMISSION

Public Workshop to Discuss Nuclear Power Reactor Steam Generator Tube Issues

AGENCY: Nuclear Regulatory Commission.

ACTION: Notice of Workshop.

SUMMARY: The Nuclear Regulatory Commission (NRC) will host a public workshop to provide an opportunity for discussion of recent events with respect to nuclear power plant steam generators and their implications. The workshop is open to the public.

DATES: The workshop will be held on Tuesday, February 27, 2001, from 7:30 a.m. to 5:15 p.m. and Wednesday, February 28, 2001 from 8:00 a.m. to 11:45 a.m.

ADDRESSES: Holiday Inn, Bethesda, 8120 Wisconsin Avenue, Bethesda, Maryland 20814. The hotel's telephone number is (301) 652-2000.

FOR FURTHER INFORMATION CONTACT: Robert L. Rothman, Mail Stop O-9D3, U.S. Nuclear Regulatory Commission, Washington, DC 20555, telephone: (301) 415-3306, email rlr@nrc.gov.

SUPPLEMENTARY INFORMATION: All pressurized water reactor licensees are required by NRC regulations to provide reasonable assurance of steam generator tube integrity. These regulations pertain to design, operation and surveillance activities of steam generators and are reflected in the licensing basis of each facility. The surveillance requirements are important to maintaining integrity, since different types of tube degradation are expected to occur over the life of the steam generator. Tubes that are identified as containing defects of a specified depth are removed from service.

In recent years, the NRC staff has examined the regulatory programs which comprise the framework for ensuring the integrity of steam generator tubes. In 1997 the Nuclear Energy Institute proposed NEI 97-06, “Steam Generator Program Guidelines,” as a formal industry initiative to provide a consistent industry approach for managing steam generator programs and for maintaining steam generator tube integrity. In 1998, the Commission approved an approach to work with the industry to more efficiently resolve program concerns and move toward NRC endorsement of NEI 97-06, coupled with voluntary industry implementation of improved steam generator technical specifications.

On February 4, 2000, the Nuclear Energy Institute provided the NRC staff with its proposed steam generator generic change package which was prepared under the Formal Industry initiative NEI 97-06. The staff suspended its review of NEI 97-06 as a result of regulatory activities associated with the Indian Point Unit 2 steam generator tube failure which occurred February 15, 2000. There have been several other activities in the steam generator area in the past year. These activities are discussed in Regulatory Information Summary 2000-22 dated November 3, 2000, and the lessons learned report from the review of the Indian Point Unit 2 steam generator tube failure dated October 23, 2000. These two documents are available on the NRC web site. On December 11, 2000 NEI submitted a revised Industry Steam Generator Program License Change Package and stated in their transmittal letter that the revised package supercedes the earlier version in its entirety. The NRC's Office of Nuclear Reactor Regulation (NRR) sponsored workshop will discuss recent events and their implications with respect to nuclear power plant steam generators. Proposed topics are: steam generator inspection technical issues, steam generator programmatic issues, steam generator tube integrity issues, and steam generator inspection oversight issues.

Registration

There is no registration fee for the meeting; however, notification of attendance is requested so that adequate preparations for the meeting can be arranged. Please notify R. L. Rothman at (301) 415-3306, email rlr@nrc.gov, if you plan to attend.

Solicitation of Participation by Stakeholders

The NRC staff is soliciting additional stakeholder participation from interested parties on both the technical and regulatory aspects related to the workshop topics. The staff requests that all persons wishing to formally make presentations at the workshop contact R. L. Rothman at (301) 415-3306, email rlr@nrc.gov, no later than February 10, 2001.

Dated at Rockville, MD this 31st day of January 2001.
For the Nuclear Regulatory Commission.
Jack R. Strosnider,
Director, Division of Engineering, Office of Nuclear Reactor Regulation.

[FR Doc. 01-3027 Filed 2-5-01; 8:45 am]

BILLING CODE 7590-01-P